DEPARTMENT OF COMMERCE

National Oceanic and Atmospheric Administration

Science Advisory Board (SAB); Public Meeting of the NOAA Science Advisory Board

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

DATES: The meeting will be held Monday, October 30, 2017, from 9:45 a.m. EDT to 5 p.m. EDT and on Tuesday, October 31, 2017, from 9 a.m. EDT to 12 p.m. EDT. These times and the agenda topics described below are subject to change. Please refer to the Web page www.sab.noaa.gov/SABMeetings.aspx for the most up-to-date meeting times and agenda.

ADDRESSES: The meeting will be held at The Sheraton Silver Spring Hotel, 8777 Georgia Ave., Silver Spring, MD, 20910.

FOR FURTHER INFORMATION CONTACT: Dr. Cynthia Decker, Executive Director, Science Advisory Board, NOAA, Room 11230, 1315 East-West Highway, Silver Spring, MD 20910. Email: Cynthia.Decker@noaa.gov; or visit the NOAA SAB Web site at http://www.sab.noaa.gov.

SUPPLEMENTARY INFORMATION: The meeting will be open to public participation with a 15-minute public comment period on October 30th from 4:45-5:00 p.m. EDT (check Web site to confirm time). The SAB expects that public statements presented at its meetings will not be repetitive of previously submitted verbal or written statements. In general, each individual or group making a verbal presentation will be limited to a total time of two (2) minutes. Individuals or groups planning to make a verbal presentation should contact the SAB Executive Director by October 23, 2017 to schedule their presentation. Written comments should be received in the SAB Executive Director's Office by October 23, 2017, to provide sufficient time for SAB review. Written comments received by the SAB Executive Director after October 23, 2017, will be distributed to the SAB, but may not be reviewed prior to the meeting date. Seating at the meeting will be available on a first-come, first-served basis.

Special Accommodations: These meetings are physically accessible to people with disabilities. Requests for special accommodations may be directed no later than 12:00 p.m. on October 23, 2017, to Dr. Cynthia Decker, SAB Executive Director, SSMC3, Room 11230, 1315 East-West Highway, Silver Spring, MC 20910; Email: Cynthia.Decker@noaa.gov.

Matters to be Considered: The meeting will include the following topics: (1) Discussion of SAB Review of the NOAA Policy on Partnerships in the Provision of Environmental Information; (2) Discussion of SAB Review of Indigenous and Local Ecological Knowledge; (3) Quantification and documentation of the value of information gathered by NOAA; (4) Better understanding of how information is used, and (5) Updates from the Acting NOAA Administrator and Acting Chief Scientist.

Dated: September 15, 2017.
David Holst,
Acting Chief Financial Officer/CAO, Office of Oceanic and Atmospheric Research National Oceanic and Atmospheric Administration.

[FR Doc. 2017-20395 Filed 9-22-17; 8:45 am]

BILLING CODE 3510-KD-P